DEPARTMENT OF ENERGY

Federal Energy Regulatory Commission

[Docket No. RP04-5-000]

National Fuel Gas Supply Corporation; Notice of Tariff Filing

October 8, 2003.

Take notice that on October 1, 2003, National Fuel Gas Supply Corporation (National Fuel) tendered for filing as part of its FERC Gas Tariff, Fourth Revised Volume No. 1, the tariff sheets listed in Appendix A to its filing. The tariff sheets have a proposed effective date of November 1, 2003.

National Fuel states the purpose of the instant filing is to reflect the relocation of its principal office by replacing each reference to National Fuel's current address with a reference to its new address.

National Fuel's states that its filing indicates that copies of this filing were served upon its customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Intervention and Protest Date: October 14, 2003.

Magalie R. Salas,
Secretary.

[FR Doc. E3-00063 Filed 10-15-03; 8:45 am]

BILLING CODE 6717-01-P